DEPARTMENT OF COMMERCE

National Oceanic and Atmospheric Administration

[I.D. 080603D]

Endangered and Threatened Species; Take of Anadromous Fish

AGENCY: National Marine Fisheries Service (NMFS), National Oceanic and Atmospheric Administration (NOAA), Commerce.

ACTION: Receipt of an application for research permits 1443 & 1445 and request for comment.

SUMMARY: Notice is hereby given that NMFS has received an application for a permit for scientific research from California Department of Fish and Game (CDFG) in Sacramento, CA (1443) and U.S. Bureau of Reclamation (BOR) in Byron, CA (1445). The permits would affect federally endangered Sacramento River winter-run Chinook salmon, threatened Central Valley spring-run Chinook salmon, and threatened Central Valley steelhead. This document serves to notify the public of the availability of the permit applications for review and comment.

DATES: Written comments on the permit applications must be received at the appropriate address or fax number (see ADDRESSES) no later than 5 p.m. Pacific standard time on September 17, 2003.

ADDRESSES: Written comments on the modification request should be sent to the appropriate office as indicated below. Comments may also be sent via fax to the number indicated for the request. Comments will not be accepted if submitted via e-mail or the Internet. The applications and related documents for permits 1443 and 1445 are available for review by appointment at the following address: Protected Resources Division, NMFS, 650 Capitol Mall, Suite 8-300, Sacramento, CA 95814 (ph: 916-930-3614, fax: 916-930-3629).

FOR FURTHER INFORMATION CONTACT: Rosalie del Rosario at phone number 916-930-3614, or e-mail: Rosalie.delRosario@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Sacramento River winter-run Chinook salmon (Oncorhynchus tshawytscha), threatened Central Valley spring-run Chinook salmon (O. tshawytscha), and threatened Central Valley steelhead (O. mykiss).

Applications Received

CDFG requests a permit (1443) for incidental take of juvenile Sacramento River winter-run Chinook salmon associated with a 2-year study on the occurrence and distribution of resident and anadromous rainbow trout in the Central Valley. DFG requests authorization for an estimated annual take of 20 juvenile winter-run Chinook salmon, with one lethal take resulting from capture by electrofishing, hook and line, netting and traps.

BOR requests a 3-year permit (1445) for take of Sacramento River winter-run Chinook salmon, threatened Central Valley spring-run Chinook salmon, and threatened Central Valley steelhead associated with four studies to improve conditions for fish at the Tracy Fish Collection Facility (facility). BOR requests authorization for an estimated annual take of 182 juvenile winter-run Chinook salmon (number includes 52-percent incidental mortality), 5,359 juvenile spring-run Chinook salmon (22-percent incidental mortality), and 171 juvenile steelhead (no incidental mortality) resulting from handling of fish that pass through the facility.

Dated: August 12, 2003.
Susan Pultz,
Acting Chief, Endangered Species Division, Office of Protected Resources, National Marine Fisheries Service.

[FR Doc. 03-21049 Filed 8-15-03; 8:45 am]

BILLING CODE 3510-22-S